NUCLEAR REGULATORY COMMISSION

[Docket No. 40-09083; NRC-2015-0209]

U.S. Army Installation Management Command, Multiple Locations

AGENCY: Nuclear Regulatory Commission.

ACTION: License amendment application; issuance.

SUMMARY: The U.S. Nuclear Regulatory Commission (NRC) has issued Amendment No. 1 to Source Materials License No. SUC-1593 to the U.S. Army, Installation Management Command (Army), for possession of Depleted Uranium (DU) from the Davy Crockett M101 spotting rounds at the following Army installations: Donnelly Training Area, Fort Wainwright, AK (Alaska); Fort Benning, GA (Georgia); Fort Bragg, NC (North Carolina); Fort Campbell, KY (Kentucky); Fort Carson, CO (Colorado); Fort Gordon, GA (Georgia); Fort Hood, TX (Texas); Fort Hunter Liggett, CA (California); Fort Jackson, SC (South Carolina); Fort Knox, KY (Kentucky); Fort Polk, LA (Louisiana); Fort Riley, KS (Kentucky); Fort Sill, OK (Oklahoma); Joint Base Lewis-McChord/Yakima Training Center, WA (Washington); Joint Base McGuire-Dix-Lakehurst, NJ (New Jersey); and Schofield Barracks/Pohakuloa Training Area, HI (Hawaii).

This license amendment allows the Army to possess DU at the specified Army Installation sites where testing of Davy Crockett M101 spotting rounds occurred.

DATES: March 28, 2016.

ADDRESSES: Please refer to Docket ID NRC-2015-0209 when contacting the NRC about the availability of information regarding this document. You may obtain publicly-available information related to this document using any of the following methods:

• Federal Rulemaking Web site: Go to http://www.regulations.gov and search for Docket ID NRC-2015-0209. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it available in ADAMS) is provided the first time that a document is referenced.

• NRC's PDR: You may examine and purchase copies of public documents at the NRC's PDR, Room O1-F21, One White Flint North, 11555 Rockville Pike, Rockville, Maryland 20852.

FOR FURTHER INFORMATION CONTACT: Amy M. Snyder, Office of Nuclear Material Safety and Safeguards, U.S. Nuclear Regulatory Commission, Washington DC 20555-0001, telephone: 301-415-6822, email: Amy.Snyder@nrc.gov.

SUPPLEMENTARY INFORMATION: The NRC has issued Amendment No. 1 to Source Materials License No. SUC-1593 to the Army for possession of DU from Davy Crockett M101 spotting rounds. This license amendment authorizes possession only of existing DU from Davy Crockett M101 spotting rounds at the following Army installations: Donnelly Training Area, Fort Wainwright, AK; Fort Benning, GA; Fort Bragg, NC; Fort Campbell, KY; Fort Carson, CO; Fort Gordon, GA; Fort Hood, TX; Fort Hunter Liggett, CA; Fort Jackson, SC; Fort Knox, KY; Fort Polk, LA; Fort Riley, KS; Fort Sill, OK; Joint Base Lewis-McChord/Yakima Training Center, WA; Joint Base McGuire-Dix-Lakehurst, NJ; and Schofield Barracks/Pohakuloa Training Area, HI.

This license amendment allows the Army to conduct activities necessary for the possession and management of DU from Davy Crockett M101 spotting rounds and fragments as a result of previous use of DU at the specified installations. The license amendment does not authorize the Army to place additional DU on the specified installations. This license amendment approves the Army's programmatic Radiation Safety Plan, programmatic Physical Security Plan, and programmatic Environmental Radiation Monitoring Plan (ERMP), which apply to all the sites (ranges) with DU from Davy Crockett M101 spotting rounds at the specified installations.

In addition, the Army is required to conduct its operations at these installations in accordance with the conditions listed in Amendment No. 1 of Source Materials License No. SUC-1593. This license amendment prohibits the Army from performing decommissioning or ground disturbing activities to collect or remove DU fragments or contaminated soil that is identified during routine range activities without prior authorization from the NRC. Also, this license amendment requires that the Army develop a site-specific ERMP for each specified installation, using the criteria contained in the approved programmatic ERMP, and submit them to the NRC within 6 months of the effective date of this license amendment. The Army is required to fully implement the site-specific ERMPs within 6 months of their approval.

Documents related to this license amendment application carry NRC docket ID NRC-2015-0209. The documents for this license amendment include the license amendment application (ADAMS Accession Nos. ML15161A454; ML15294A276; ML16004A369; and ML16048A358), the Safety Evaluation Report (SER) (ADAMS Accession No. ML16039A230), and the license (ADAMS Accession No. ML16039A234). Note that a complete listing of documents associated with the NRC staff's review of the Army's license amendment application is included in the SER.

The Army's request for this license amendment was previously noticed in the Federal Register on September 4, 2015 (80 FR 53586), with a notice of an opportunity to request a hearing and to petition for leave to intervene. No requests for a hearing or petition for leave to intervene were filed on this proceeding.

Dated at Rockville, Maryland, this 21st day of March, 2016.
For the Nuclear Regulatory Commission.
John R. Tappert,
Director, Division of Decommissioning, Uranium Recovery, and Waste Programs, Office of Nuclear Material Safety and Safeguards.

[FR Doc. 2016-06947 Filed 3-25-16; 8:45 am]

BILLING CODE 7590-01-P